SMALL BUSINESS ADMINISTRATION

[Declaration of Disaster #3625]

State of Mississippi; (Amendment #1)

In accordance with a notice received from the Department of Homeland Security—Federal Emergency Management Agency—effective September 21, 2004, the above numbered declaration is hereby amended to include Clarke and Lauderdale counties as disaster areas due to damages caused by Hurricane Ivan occurring on September 13, 2004 and continuing.

In addition, applications for economic injury loans from small businesses located in the contiguous counties of Kemper, Neshoba, and Newton in the State of Mississippi; and Sumter County in the State of Alabama may be filed until the specified date at the previously designated location. All other counties contiguous to the above named primary counties have previously been declared. All other information remains the same, i.e., the deadline for filing applications for physical damage is November 15, 2004 and for economic injury the deadline is June 15, 2005.

(Catalog of Federal Domestic Assistance Program Nos. 59002 and 59008.)
Dated: September 23, 2004.
Herbert L. Mitchell,
Associate Administrator for Disaster Assistance.

[FR Doc. 04-21895 Filed 9-29-04; 8:45 am]

BILLING CODE 8025-01-P